DEPARTMENT OF AGRICULTURE

Forest Service

36 CFR Part 200

Organization, Functions, and Procedures; Correction

AGENCY: Forest Service, USDA.

ACTION: Correcting amendment.

SUMMARY: This document contains a correction to the final regulation which published in the Federal Register of June 19, 1997 (62 FR 33365). The regulations grant the basic authority of the Chief to issue directives concerning Forest Service operations.

DATES: Effective on April 28, 2009.

FOR FURTHER INFORMATION CONTACT: Lorrie Parker, Washington Office, Office of Regulatory and Management Services, (202) 205-6560.

SUPPLEMENTARY INFORMATION:

Background

The final regulations, that are the subject of this correction, were updated to clarify the description of the Forest Service Directive System with respect to the issuance of directives, and includes in section 200.4 paragraph (e) a reference to the alphabetical index of the directives in Forest Service Handbook 1109.11, Directive System User Guide. This Forest Service Handbook was removed entirely from the Forest Service directive system effective May 11, 2001, and the Agency direction moved to Forest Service Handbook 1109.12, Directive System Handbook.

Need for Correction

As published, the final regulations contain incorrect information which may be misleading and need to be clarified.

List of Subjects in 36 CFR Part 200

Administrative practice and procedure, Freedom of information, Organization and functions (Government agencies).

Accordingly, 36 CFR Part 200 is corrected by making the following correcting amendments:

PART 200—ORGANIZATION, FUNCTIONS, AND PROCEDURES

1. The authority citation of part 200 continues to read as follows:

Authority: 5 U.S.C. 552; 7 U.S.C. 6706; 16 U.S.C. 472, 521, 1603, and 2101 et seq.

Subpart B—Functions and Procedures

2. In § 200.4, revise paragraph (e) to read as follows:

§ 200.4 Administrative issuances.

* * * * *

(e) An alphabetical index of the contents of the Forest Service Manual and related Forest Service Handbooks is published in Forest Service Handbook 1109.12, Directive System Handbook. The index contains a listing of all Series, Titles, and Chapters in the Forest Service Manual and a listing of all Forest Service Handbooks in the Directive System.

* * * * *

Dated: April 21, 2009.
Charles L. Myers,
Deputy Chief, Business Operations.

[FR Doc. E9-9494 Filed 4-27-09; 8:45 am]

BILLING CODE 3410-11-P